DEPARTMENT OF AGRICULTURE

Office of the Secretary

Commission on 21st Century Production Agriculture; Notice of Meeting

SUMMARY: The U.S. Department of Agriculture (USDA) has established the Commission on 21st Century Production Agriculture. In accordance with Section 10(a)(2) of the Federal Advisory Committee Act (FACA), notice is hereby given of a meeting in August of the Commission on 21st Century Production Agriculture. The purpose of the meeting on August 22, 2000 is a working session, which will address issues regarding agricultural policy initiatives to be included in the Commission report. This meeting is open to the public.

Place, Date, and Time of Meeting: This meeting will be held August 22, 2000 from 8:00 am-5:00 pm in Room 108-A, Whitten Building.

FOR FURTHER INFORMATION CONTACT: Mickey Paggi (202-720-3139), Director, Commission on 21st Century Production Agriculture, Room 3702 South Building, 1400 Independence Avenue, SW, Washington, DC 20250-0524.

Dated: July 25, 2000.
Keith J. Collins,
Chief Economist.

[FR Doc. 00-19191 Filed 7-28-00; 8:45 am]

BILLING CODE 3410-01-M